DEPARTMENT OF THE INTERIOR

National Park Service

[NPS-WASO-NAGPRA-22421; PPWOCRADN0-PCU00RP14.R50000]

Notice of Intent To Repatriate Cultural Items: Peabody Museum of Natural History, Yale University, New Haven, CT

AGENCY: National Park Service, Interior.

ACTION: Notice.

SUMMARY: The Peabody Museum of Natural History, in consultation with the appropriate Indian tribes or Native Hawaiian organizations, has determined that the cultural items listed in this notice meet the definition of unassociated funerary objects. Lineal descendants or representatives of any Indian tribe or Native Hawaiian organization not identified in this notice that wish to claim these cultural items should submit a written request to the Peabody Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Peabody Museum of Natural History at the address in this notice by January 3, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate cultural items under the control of the Peabody Museum of Natural History, Yale University, New Haven, CT, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1958, seven cultural items were removed from a Nunamiut burial site identified as the Ridge Burial, Anaktuvuk Pass, Brooks Range, North Slope Borough, AK, and donated to the Peabody Museum of Natural History the same year. The seven unassociated funerary objects are five faunal remains, one wood fragment, and one lot of rusted iron fragments.

The archeological context and the presence of trade materials confirms a post-contact date for this burial. The region of Anaktuvuk was, and is, occupied by the Nunamiut people who are today represented by the Village of Anaktuvuk Pass.

In an unknown year, 11 cultural items were removed by an unknown individual(s) from a Nunamiut burial site near Tuluak Lake, Anaktuvuk Pass, Brooks Range, North Slope Borough, AK. The cultural items were purchased from local Nunamiut persons in 1957 and 1958, and donated to the Peabody Museum of Natural History. The 11 unassociated funerary objects are one rifle, one brass ramrod fitting, one brass sling fitting, one lot of lead round ball bullets, one lot of lead fragments, one lot of metal springs, one lot of glass beads, one lot of spalls, one bone spatula, one antler pendant, and one biface fragment.

The archeological context and the presence of trade materials confirms a post-contact date for this burial. The region of Anaktuvuk was, and is, occupied by the Nunamiut people who are today represented by the Village of Anaktuvuk Pass.

Determinations Made by the Peabody Museum of Natural History

Officials of the Peabody Museum of Natural History have determined that:

• Pursuant to 25 U.S.C. 3001(3)(B), the 18 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Village of Anaktuvuk Pass.

Additional Requestors and Disposition

Lineal descendants or representatives of any Indian tribe or Native Hawaiian organization not identified in this notice that wish to claim these cultural items should submit a written request with information in support of the claim to Professor David Skelly, Director, Yale Peabody Museum of Natural History, P.O. Box 208118, New Haven, CT 06520-8118, telephone (203) 432-3752, by January 3, 2017. After that date, if no additional claimants have come forward, transfer of control of the unassociated funerary objects to the Village of Anaktuvuk Pass may proceed.

The Peabody Museum of Natural History is responsible for notifying the Village of Anaktuvuk Pass that this notice has been published.

Dated: November 15, 2016.
Melanie O'Brien,
Manager, National NAGPRA Program.

[FR Doc. 2016-28952 Filed 12-1-16; 8:45 am]

BILLING CODE 4312-52-P